DEPARTMENT OF HOMELAND SECURITY

Federal Emergency Management Agency

Disaster Housing Assistance Program (DHAP)

AGENCY: Federal Emergency Management Agency, DHS.

ACTION: Notice.

SUMMARY: This document provides notice that the Federal Emergency Management Agency (FEMA) and the Department of Housing and Urban Development (HUD) executed an Interagency Agreement (IAA) establishing a pilot grant program called the Disaster Housing Assistance Program (DHAP). DHAP is a temporary housing rental assistance and case management program for identified individuals and households displaced by Hurricanes Katrina and Rita. Under the IAA, HUD acts as the servicing agency of the DHAP. Monthly rental assistance payments under the DHAP will commence November 1, 2007. Case management services will begin on or after September 1, 2007.

DATES: FEMA and the HUD executed the Interagency Agreement establishing the DHAP on July 26, 2007.

ADDRESSES: Details about the DHAP will be published by HUD in a Federal Register Notice. In addition, a copy of the full text of the FEMA-HUD IAA can be accessed via the FEMA Web site at http://www.fema.gov. Periodic updates on DHAP will be posted on FEMA's Web site.

FOR FURTHER INFORMATION CONTACT: Donna M. Dannels, Director, Individual Assistance Division, Disaster Assistance Directorate, Federal Emergency Management Agency, Department of Homeland Security, 500 C Street, SW., Washington, DC 20472, telephone (202) 646-7082 (this is not a toll-free number). Individuals with speech or hearing impairments may access this number through TTY by calling the toll-free Federal Information Relay Service at 800-877-8339.

SUPPLEMENTARY INFORMATION: In late August 2005, Hurricane Katrina struck the Gulf Coast area of the United States causing unprecedented and catastrophic damage to property, significant loss of life, and the displacement of tens of thousands of individuals from their homes and communities. In September 2005, Hurricane Rita hit the Gulf Coast area of the United States and added to the damage to property and displacement of individuals and families from their homes and communities.

Under section 408 of the Robert T. Stafford Disaster Relief and Emergency Assistance Act (Stafford Act), 42 U.S.C. 5174, the Federal Emergency Management Agency (FEMA) disaster housing programs are short-term assistance programs with a limitation of 18 months, unless extended by the President. Due to the severity of Hurricanes Katrina and Rita and the Department of Housing and Urban Development's (HUD) expertise in assisting families with long-term housing needs through its existing infrastructure of Public Housing Agencies (PHAs), the President determined that housing assistance should be transitioned to HUD to address this continuing need.

Since HUD is responsible for administering the Housing Choice Voucher Program (HCVP), the nation's largest tenant-based subsidy program, and since HUD assisted those Hurricane Katrina and Rita disaster victims already in HUD programs by implementing the Katrina Disaster Housing Assistance Program (KDHAP) and the Disaster Voucher Program (DVP), FEMA worked with HUD to create the new pilot Disaster Housing Assistance Program (DHAP).

The local PHAs that currently administer the HCVP will be designated by HUD to administer the DHAP in their jurisdiction. PHAs will be awarded grants from FEMA to provide rent subsidies to eligible families for a period not to exceed 16 months commencing November 1, 2007 and ending March 1, 2009. Families eligible for DHAP are those identified by FEMA who: (1) Currently receive rental assistance authorized under section 408 of the Stafford Act, 42 U.S.C. 5174 pursuant to the Presidential major disaster declarations resulting from Hurricanes Katrina or Rita, and are determined by FEMA to be eligible for continued rental assistance; (2) currently receive other housing assistance from FEMA (e.g., a FEMA-provided trailer) and are determined by FEMA to be eligible for rental assistance; (3) have not received rental assistance from FEMA but are determined by FEMA to be eligible for rental assistance before the DHAP ends; or (4) currently reside in a HUD-provided Real-Estate Owned (REO) property through an arrangement between HUD and FEMA, and who are be determined by FEMA to be eligible for continued rental assistance after relocating out of the REO property. FEMA will rely on the eligibility standards established for its temporary housing program at 44 CFR 206.113 in determining who is eligible for referral to the DHAP. All eligible families will be contacted by a PHA and families who agree to participate in the DHAP must sign and execute a HUD-provided DHAP lease addendum to their current lease with their landlord, which sets forth the new obligations to receive the rental subsidy. Similarly, landlords will be contacted by PHAs and those who agree to participate in the DHAP must sign and execute a Disaster Rent Subsidy Contract (DRSC) with the PHA outlining the new conditions and obligations, in addition to signing a lease addendum with the tenant.

The designated PHAs will begin the rent subsidy on November 1, 2007. Beginning in March 1, 2008, the rent subsidy will decrease $50 per month per family, with the goal of leading the family closer to complete housing self-sufficiency at the end of the 16-month program. When the DHAP assistance ends on March 1, 2009, all families are responsible for the full amount of the rent.

The designated PHAs will also provide case management services, which will include a needs assessment and individual development plan (IDP) for each family. The objective of HUD case management services is to promote self-sufficiency for the participating family. Case management services will begin on or after September 1, 2007, for those families transitioning to the DHAP during the initial implementation phase.

Details about DHAP will be published by HUD in a Federal Register Notice. In addition, a copy of the full text of the FEMA-HUD IAA can be accessed via the FEMA Web site at http://www.fema.gov. Periodic updates on DHAP will be posted on FEMA's Web sites.

Authority

Legal authority for DHAP is based on the Department of Homeland Security's (DHS) general grant authority under section 102(b)(2) of the Homeland Security Act, 6 U.S.C. 112, and sections 306(a), 408(b)(1), and 426 of the Robert T. Stafford Disaster Relief and Emergency Assistance Act (Stafford Act), 42 U.S.C. 5149(a), 5174(b)(1), and 5189d, respectively. As a servicing agency under a grant from FEMA, and consistent with the Economy Act, HUD derives all authority under the program from FEMA.

Dated: August 17, 2007.
R. David Paulison,
Administrator, Federal Emergency Management Agency.

[FR Doc. E7-16602 Filed 8-21-07; 8:45 am]

BILLING CODE 9110-10-P